DEPARTMENT OF HEALTH AND HUMAN SERVICES

Centers for Disease Control and Prevention;

[Program Announcement 05052]

Information Interchange and Technical Assistance for Human Immunodeficiency Virus (HIV) Prevention; Notice of Intent To Fund Single Eligibility Award

A. Purpose

The Centers for Disease Control and Prevention (CDC) announces the intent to fund fiscal year (FY) 2005 funds for a cooperative agreement program to support an information exchange program among mayors and other local and state government officials concerning HIV prevention; HIV prevention program and policy development; and the provision of technical assistance to community-based organizations (CBOs), local and state health departments, and other public and private sector organizations involved in health promotion and disease prevention activities. The Catalog of Federal Domestic Assistance number for this program is 93.939.

B. Eligible Applicant

Assistance will be provided only to the United States Conference of Mayors (USCM). No other applications are solicited.

The proposed program is in alignment with the USCM mission, and the organization's mission facilitates the successful and expedited implementation of the program proposed under this announcement. The USCM is the official nonpartisan organization of the nation's 1,183 U.S. cities with populations of 30,000 or more. Each city is represented in the Conference by its chief elected official, the mayor. The primary roles of the Conference of Mayors are to: (1) Promote the development of effective national urban/suburban policy; (2) Strengthen federal-city relationships; (3) Ensure that federal policy meets urban needs; (4) Provide mayors with leadership and management tools; and (5) Create a forum in which mayors can share ideas and information. The USCM has 30 key programs, which include a HIV/AIDS program. The Conference was one of the first national organizations to respond to the HIV/AIDS epidemic and has worked closely with the CDC by offering prevention grants, prevention publications, and technical assistance.

Market research findings indicate that the USCM is the only umbrella organization exclusively for all mayors nationwide. USCM has the access to, and long-standing relationships with, the mayors, and the infrastructure to successfully conduct the proposed program activities. The organization's existing relationships and access to mayors facilitate immediate implementation of program activities because the organization does not have to establish contacts and develop relationships with the Mayors. In addition, through its affiliate, The U.S. Conference of Local Health Officials, with a membership comprised of approximately 2,000 local health officials, the USCM has established networks with local health officials. The USCM was created specifically to represent this wide variety of local organizations and community officials to the Federal government and other national organizations, and is unique in its role as a liaison between these officials. The organization has served as a policy-development and capacity-building organization in intergovernmental affairs for more than 65 years and has, as one of its major objectives, the sharing of information between local governments and federal agencies.

The USCM is currently funded under RFA 00054, entitled, “Information Interchange and Technical and Financial Assistance for HIV Prevention.”

C. Funding

Approximately $1,300,000 is available in FY 2005 to fund this award. It is expected that the award will begin on or before June 1, 2005, and will be made for a 12-month budget period within a project period of up to four years. Funding estimates may change.

D. Where To Obtain Additional Information

For general comments or questions about this announcement, contact: Technical Information Management, CDC Procurement and Grants Office, 2920 Brandywine Road, Atlanta, GA 30341-4146, Telephone: 770-488-2700.

For program technical assistance, contact:

Qairo Ali, Project Officer, 1600 Clifton Road, NE., Mailstop E-35, Atlanta, Georgia 30333, Telephone: 404-639-5224, e-mail: cda1@cdc.gov.

For financial, grants management, or budget assistance, contact: Roslyn Curington, Grants Management Specialist, CDC Procurement and Grants Office, 2920 Brandywine Road, Atlanta, GA 30341, Telephone: 770-488-2767, e-mail: zlp8@cdc.gov.

Dated: April 6, 2005.
William P. Nichols,
Director, Procurement and Grants Office, Centers for Disease Control and Prevention.

[FR Doc. 05-7281 Filed 4-11-05; 8:45 am]

BILLING CODE 4163-18-P